SECURITIES AND EXCHANGE COMMISSION

[OMB Control No. 3235-XXXX]

Agency Information Collection Activities; Submission for OMB Review; Comment Request; Request for a New OMB Control Number: Cost of AML/CFT Compliance Survey

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is submitting to the Office of Management and Budget (OMB) this request for a new OMB Control Number for the proposed collection of information. The collection of information is in the form of a survey and will seek information on Bank Secrecy Act (“BSA”) ¹ Anti-Money Laundering (“AML”)/Countering the Financing of Terrorism (“CFT”) compliance costs and related topics. The collection of information is voluntary. The purpose of the collection of information is to better understand the cost of AML/CFT compliance for entities registered with the Commission that have AML/CFT obligations under the BSA. The information collected will help assess the cumulative impact of BSA AML/CFT regulations and may inform efforts to adjust regulatory obligations and advance deregulatory proposals consistent with the executive orders of the Trump administration. The data may also support the development of deregulatory rulemakings or guidance to reduce compliance burden without compromising the effectiveness of current AML/CFT frameworks. Subject to the provisions of the Freedom of Information Act, 5 U.S.C. 552, and the Commission's rules thereunder (17 CFR 200.80(b)(4)(iii)), the Commission will not generally publish or make available information contained in any reports, summaries, analyses, letters, or memoranda arising out of this collection. As such, individual responses to the survey will not be made publicly available and will not be used for examination or enforcement purposes.

¹ 31 U.S.C. 5311 et seq.

There are approximately 3,289 registered broker-dealers and 1,355 registered mutual funds. The staff estimates that the average amount of time necessary to complete the survey will be eight hours. Each respondent choosing to respond would only need to complete the survey once. The total burden, if all respondents reply, would therefore be 37,152 hours.

Interested members of the public may view the proposed survey on at the following web page: https://www.sec.gov/files/sec-bsa-aml-cft-burden-survey.pdf.

An agency may not conduct or sponsor, and a person is not required to respond to, a collection of information unless it displays a currently valid OMB Control Number.

The public may view and comment on this information collection request at: https://www.reginfo.gov/public/do/PRAViewICR?ref_nbr=202601-3235-009 or email comment to MBX.OMB.OIRA.SEC_desk_officer@omb.eop.gov within 30 days of the day after publication of this notice, by February 23, 2026.

Dated: January 21, 2026.
Sherry R. Haywood,
Assistant Secretary.

[FR Doc. 2026-01306 Filed 1-22-26; 8:45 am]

BILLING CODE 8011-01-P